DEPARTMENT OF TRANSPORTATION

Federal Aviation Administration

14 CFR Parts 21 and 45

[Docket No. FAA-2013-0933; Amdt. Nos. 21-98A, 45-29A]

RIN 2120-AK20

Changes to Production Certificates and Approvals; Correction

AGENCY: Federal Aviation Administration, DOT.

ACTION: Final rule; correction.

SUMMARY: The Federal Aviation Administration (FAA) is correcting a final rule published on October 1, 2015. In that rule, the FAA amended its certification procedures and marking requirements for aeronautical products and articles. This action corrects the effective date of the final rule to permit an earlier implementation of the rule's provisions that allow production approval holders to issue authorized release documents for aircraft engines, propellers, and articles. It also permits an earlier implementation date for production certificate holders to manufacture and install interface components, and provides earlier relief from the current requirement that fixed-pitch wooden propellers be marked using an approved fireproof method.

DATES: The final rule published October 1, 2015 (80 FR 59021), is effective March 29, 2016, except for §§ 21.1(b)(1), 21.1(b)(5) through (9), 21.137(o), 21.142, 21.147, and 45.11(c), which are effective January 4, 2016.

FOR FURTHER INFORMATION CONTACT: For technical questions concerning this action, contact Priscilla Steward or Robert Cook, Aircraft Certification Service, Production Certification Section, AIR-112, Federal Aviation Administration, 800 Independence Avenue SW., Washington, DC 20591; telephone (202) 267-1656; email: priscilla.steward@faa.gov or telephone: (202) 267-1590; email: robert.cook@faa.gov.

SUPPLEMENTARY INFORMATION:

Background

On October 1, 2015, the final rule, “Changes to Production Certificates and Approvals,” 80 FR 59021, was published in the Federal Register. In that final rule the FAA revised the regulations pertaining to certification requirements for products and articles in part 21 of title 14 of the Code of Federal Regulations (14 CFR) and removed certain marking requirements in 14 CFR part 45 applicable to fixed-pitch wooden propellers. The final rule afforded production approval holders (PAHs) a number of privileges not currently permitted under current regulations.

To provide PAHs privileges similar to those afforded European and Canadian approved manufacturers, § 21.137(o) of the final rule permits a PAH to issue authorized release documents for new aircraft engines, propellers, and articles that it produces, and also for used aircraft engines, propellers, and articles it rebuilds or alters in accordance with § 43.3(j), provided it establishes an FAA-approved process in its quality system for issuing those documents. Authorized release documents would typically be issued using FAA Form 8130-3, Airworthiness Release Certificate, Airworthiness Approval Tag.

The final rule also allows a PAH that meets the requirements of § 21.147(c) to apply for an amendment to its production certificate for the purpose of manufacturing and installing interface components. The term “interface component” is also specifically defined in § 21.1(a)(5).

Additionally, the final rule amends part 45 to exclude fixed-pitch wooden propellers from the requirement that a propeller, propeller blade, or propeller hub be marked using an approved fireproof method. This exclusion allows manufacturers to mark their products in a practical manner that takes into account the inherent nature of wooden propellers.

Finally, the rule revises the definition of “airworthiness approval,” in § 21.1(b)(1), by expanding it to account for the issuance of an airworthiness approval in instances where an aircraft, aircraft engine, propeller, or article does not conform to its approved design or may not be in a condition for safe operation at the time the airworthiness approval is generated and that nonconformity or condition is specified on the airworthiness approval document.

The FAA issued the final rule with an effective date of 180 days after its publication in the Federal Register to allow sufficient time for industry compliance with new requirements contained in the rule. This effective date, however, also delayed the implementation date of certain provisions that removed regulatory burdens that were no longer necessary or appropriate in the current global manufacturing environment. Accordingly, the FAA is amending the effective date of the final rule to January 4, 2016 for the following sections:

• § 21.1(b)(1) which revises the definition of airworthiness approval

• § 21.1(b)(5), which defines interface component

• § 21.137(o), which establishes provisions for the issuance of authorized release documents by PAHs

• § 21.142, which codifies provisions for the inclusion of interface components in a production limitation record

• § 21.147, which specifies the requirements that must be met to amend a production certificate to include interface components

• § 45.11(c), which excludes fixed-pitch wooden propellers from the requirement that they be marked using an approved fireproof method.

The FAA also notes that Change 5 to the Maintenance Annex Guidance (MAG), which implements certain provisions of the Aviation Safety Agreement between the United States and the European Union requires that FAA Form 8130-3 be issued by a U.S. PAH for new parts that will be installed in articles for which a dual airworthiness release is to be issued. In order to serve European customers many U.S. repair stations will be required to possess parts documentation that U.S. PAHs cannot currently issue and which can only be obtained from the FAA or its designees.

Although the FAA and EASA have agreed to delay the implementation of Change 5 to the MAG until March 29, 2016, correcting the effective date of § 21.137(o) will provide PAHs with the ability to establish a system for the issuance of authorized release documents to meet EASA requirements without increasing staff in the form of Organization Designation Authority (ODA) unit members or Designated Manufacturing Inspection Representatives (DMIRs), or incurring the cost of hiring additional Designated Airworthiness Representatives (DARs).

Additionally, correcting the effective date of §§ 21.142, 21.147, and 45.11(c) will alleviate the current need for PAHs to request new exemptions or renew current exemptions to manufacture and install interface components and appropriately mark wooden propellers.

The remaining sections of the final rule become effective on March 29, 2016, its originally published effective date.

Correction

In FR Doc. 2015-24950, beginning on page 59021 in the Federal Register of October 1, 2015, in the second column, correct the DATES section to read as follows:

DATES: This final rule is effective March 29, 2016, except for §§ 21.1(b)(1), 21.1(b)(5) through (9), 21.137(o), 21.142, 21.147 and 45.11(c), which are effective on January 4, 2016.

Issued under authority provided by 49 U.S.C. 106(f), 44701(a), and 44703 in Washington, DC, on December 11, 2015.
Lirio Liu,
Director, Office of Rulemaking.

[FR Doc. 2015-31639 Filed 12-16-15; 8:45 am]

BILLING CODE P